OFFICE OF THE UNITED STATES TRADE REPRESENTATIVE

African Growth and Opportunity Act Implementation Subcommittee of the Trade Policy Staff Committee; Public Comments on Annual Review of Country Eligibility for Benefits Under the African Growth and Opportunity Act

AGENCY: Office of the United States Trade Representative.

ACTION: Notice and request for comments.

SUMMARY: The African Growth and Opportunity Act Implementation Subcommittee of the Trade Policy Staff Committee (the “Subcommittee”) is requesting written public comments for the annual review of the eligibility of sub-Saharan African countries to receive the benefits of the African Growth and Opportunity Act (AGOA). The Subcommittee will consider these comments in developing recommendations on country eligibility for the President. Comments received related to the child labor criteria may also be considered by the Secretary of Labor for the preparation of the Department of Labor's report on child labor as required under section 412(c) of the Trade and Development Act of 2000. This notice identifies the eligibility criteria that must be considered under AGOA, lists the sub-Saharan African countries that are currently eligible for AGOA, and the sub-Saharan African countries that are currently ineligible for the AGOA.

DATES: Public comments are due at USTR by noon, Monday, October 20, 2003.

ADDRESSES: Submission by electronic mail: FR0098@ustr.gov. Submissions by facsimile: Gloria Blue, Executive Secretary, Trade Policy Staff Committee, at (202) 395-6143. The public is strongly encouraged to submit documents electronically rather than by facsimile. See requirements for submissions below.

FOR FURTHER INFORMATION CONTACT: For procedural questions, please contact Gloria Blue, Office of the United States Trade Representative, 600 17th Street, NW, Room F516, Washington, DC 20508, (202) 395-3475. All other questions should be directed to Constance Hamilton, Senior Director for African Affairs, Office of the U.S. Trade Representative, 600 17th Street, NW, Washington, DC, (202) 395-9514.

SUPPLEMENTARY INFORMATION: The AGOA (title I of Public Law 106-200) amends Title V of the Trade Act of 1974 (19 U.S.C. 2461 et seq.) (the “Trade Act”) to authorize the President to designate sub-Saharan African countries as eligible for duty-free tariff treatment for certain products under the Generalized System of Preferences program (GSP). The AGOA also authorizes the President to designate sub-Saharan African countries as eligible for the preferential treatment the AGOA provides for certain textile and apparel articles.

The President may designate a country as a beneficiary sub-Saharan African country eligible for both the additional GSP benefits and the textile and apparel benefits of the AGOA (if the country also meets certain statutory requirements intended to prevent unlawful transshipment of such articles) if he determines that the country meets the eligibility criteria set forth in: (1) section 104 of the AGOA; and (2) section 502 of the Trade Act. To date, 38 countries have been designated as beneficiary sub-Saharan African countries. These countries, as well as the 10 currently ineligible countries, are listed below. Section 506A of the Trade Act provides that the President shall monitor, review, and report to Congress annually on the progress of each sub-Saharan African country in meeting the foregoing eligibility criteria in order to determine the current or potential eligibility of each country to be designated as a beneficiary sub-Saharan African country. The President's determinations will be included in the annual report submitted to Congress as required by Section 106 of the AGOA. Section 506A of the Trade Act and section 104 of the AGOA require that, if the President determines that an eligible sub-Saharan African country is not making continual progress in meeting the eligibility requirements, he must terminate the designation of the country as a beneficiary sub-Saharan African country.

The Subcommittee is seeking public comments in connection with the annual review of the eligibility of sub-Saharan African countries for the AGOA's benefits. The Subcommittee will consider any such comments in developing recommendations on country eligibility for the President. Comments related to the child labor criteria may also be considered by the Secretary of Labor in making the findings required under section 504 of the Trade Act.

Beneficiary Sub-Saharan African Countries

The following have been designated as beneficiary sub-Saharan African countries:

Republic of Benin

Republic of Botswana

Republic of Cameroon

Republic of Cape Verde

Central African Republic

Republic of Chad

Republic of the Congo

Republic of Côte d'Ivoire

Democratic Republic of the Congo

Republic of Djibouti

State of Eritrea

Ethiopia

Gabonese Republic

Republic of The Gambia

Republic of Ghana

Republic of Guinea

Republic of Guinea-Bissau

Republic of Kenya

Kingdom of Lesotho

Republic of Madagascar

Republic of Malawi

Republic of Mali

Islamic Republic of Mauritania

Republic of Mauritius

Republic of Mozambique

Republic of Namibia

Republic of Niger

Federal Republic of Nigeria

Republic of Rwanda

Democratic Republic of São Tomè and Principe

Republic of Senegal

Republic of Seychelles

Republic of Sierra Leone

Republic of South Africa

Kingdom of Swaziland

United Republic of Tanzania

Republic of Uganda

Republic of Zambia

Sub-Saharan African Countries Not Designated as Beneficiary Countries

The following have not been designated as beneficiary sub-Saharan African countries:

Republic of Angola

Burkina Faso

Republic of Burundi

Federal Islamic Republic of the Comoros

Republic of Equatorial Guinea

Republic of Liberia

Somalia

Republic of Togo

Republic of Sudan

Republic of Zimbabwe

Requirements for Submissions: In order to facilitate the prompt processing of submissions, the Office of the United States Trade Representative strongly urges and prefers electronic (e-mail) submissions to FR0098@ustr.gov in response to this notice. In the event that an e-mail submission is impossible, submissions should be made by facsimile. Persons making submissions by e-mail should use the following subject line: “2003 AGOA Annual Country Review.” Documents should be submitted as WordPerfect, MSWord, or text (.TXT) files. Supporting documentation submitted as spreadsheets are acceptable as Quattro Pro or Excel. For any document containing business confidential information submitted electronically, the file name of the business confidential version should begin with the characters “BC-” and the file name of the public version should begin with the characters “P-”. The “P-” or “BC-” should be followed by the name of the submitter. Persons who make submissions by e-mail should not provide separate cover letters; information that might appear in a cover letter should be included in the submission itself. Similarly, to the extent possible, any attachments to the submission should be included in the same file as the submission itself, and not as separate files.

Written comments will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

Carmen Suro-Bredie,
Chairman, Trade Policy Staff Committee.

[FR Doc. 03-24419 Filed 9-25-03; 8:45 am]

BILLING CODE 3190-01-P